DEPARTMENT OF TRANSPORTATION

Federal Aviation Administration

Public Notice of Airport Improvement Program Property Release Portland-Hillsboro Airport, Hillsboro, Oregon

AGENCY: Federal Aviation Administration (FAA), Transportation (DOT).

ACTION: Notice of Request to Release Airport Improvement Program Property.

SUMMARY: Notice is being given that the FAA is considering a request from the Port of Portland, Oregon to waive the property requirements for approximately .78 acres of airport property and the release from aeronautical to non-aeronautical for approximately .30 acres of airport property located at Hillsboro Airport, in Hillsboro, Oregon.

DATES: Comments are due within 30 days of the date of the publication of this notice in the Federal Register. Emailed comments can be provided to Ms. Mandi M. Lesauis, Program Specialist, Seattle Airports District Office, mandi.lesauis@faa.gov.

FOR FURTHER INFORMATION CONTACT: Mandi M. Lesauis, Program Specialist, Seattle Airports District Office, mandi.lesauis@faa.gov, (206) 231-4140.

SUPPLEMENTARY INFORMATION: The subject properties are located in the south and northeast section of the airport. This release will allow the Port to sell .78 acres of Tax Lots 1N232AD02100, 1N232AD02200, 1N232AB00500, 1N232AB00100, 1N232AB00102 and 1N2280001550 to the City of Hillsboro to facilitate Cornell Road and NE 25th Avenue and Cornell Road and NE Brookwood Parkway road expansion and safety improvements. This release will also allow .30 acres of Tax Lots 1N232AD02100, 1N232AD02200, 1N232AB00100 and 1N232AB00102 to be designated as non-aeronautical easements for public utility and traffic control device purposes. There will be proceeds generated from the proposed release of this property for capital improvements at the airport. The Port will receive not less than fair market value for the property and the revenue generated from the sale will be used for airport purposes. It has been determined through study that the subject partial parcel will not be needed for aeronautical purposes.

Authority: Title 49, U.S.C. Section 47153(c).

Issued in Des Moines, Washington, on May 20, 2022.
Warren D. Ferrell,
Acting Manager, Seattle Airports District Office.

[FR Doc. 2022-11272 Filed 5-25-22; 8:45 am]

BILLING CODE 4910-13-P